DEPARTMENT OF TRANSPORTATION

Pipeline and Hazardous Materials Safety Administration

[Docket ID PHMSA-RSPA-1997-2426]

Pipeline Safety: National Pipeline Mapping System

AGENCY: Pipeline and Hazardous Materials Safety Administration (PHMSA), DOT.

ACTION: Notice; Issuance of Advisory Bulletin.

SUMMARY: This document advises gas transmission pipeline operators, hazardous liquid pipeline operators, and Liquefied Natural Gas (LNG) plant operators of voluntary changes pertaining to submittal dates and Operator ID numbers for National Pipeline Mapping System (NPMS) submissions.

FOR FURTHER INFORMATION CONTACT: Amy Nelson by phone at (202) 493-0591 or by e-mail at amy.nelson@dot.gov.

SUPPLEMENTARY INFORMATION:

I. Background

The Pipeline Safety Improvement Act of 2002 requires gas transmission pipeline operators, hazardous liquid pipeline operators, and LNG plant operators to submit data to NPMS. Currently, operators submit their data annually, within one year of the last submission date. PHMSA is attempting to simplify NPMS's reporting process and to improve PHMSA's ability to accurately describe an operator's assets internally and to Congress.

II. Advisory Bulletin (ADB-08-07)

To: Operators of Gas Transmission Pipelines, Hazardous Liquid Pipelines and LNG Plant Operators.

Subject: NPMS Submissions.

Purpose: To advise operators of voluntary changes to their NPMS submissions.

Advisory: Beginning on January 1, 2009, PHMSA is requesting that operators submit their NPMS data concurrently with hazardous liquid and gas transmission annual report submissions. Annual reports are due on March 15 each year for gas transmission operators and on June 15 for hazardous liquid operators. PHMSA suggests that beginning on January 1, 2009, gas transmission NPMS submissions be submitted by March 15, 2009, and represent the pipeline operator assets as of December 31, 2008. LNG plant operators would also submit to NPMS by March 15, 2009, representing assets as of December 31, 2008. Hazardous liquid annual reports and NPMS submissions would both be submitted by June 15, 2009, representing assets as of December 31, 2008. In 2010 and beyond, the annual report and NPMS submission due dates would remain March 15 for gas transmission and LNG plants and June 15 for hazardous liquid pipelines. NPMS submissions would represent physical assets as of December 31 of the previous year.

Submitting annual reports and NPMS data at the same time will alleviate the need for pipeline operators to track their last NPMS submission and may decrease the receipt of notices from PHMSA that data has not been submitted.

PHMSA also suggests that Operator ID numbers (internal DOT numbers assigned by PHMSA to the operator for specific assets) in annual report submissions match the same assets described in NPMS submissions. Operators who choose to follow this guidance will use the same Operator ID number to describe a pipeline or LNG asset in both the annual report and NPMS submission beginning with their 2009 submissions. This does not apply to pipeline operators who have requested and been assigned only one Operator ID number. Synchronizing the Operator ID numbers will alleviate confusion in identifying operator assets and improve PHMSA's ability to accurately describe the pipeline operated by a specific pipeline operator. The ability to accurately identify and track operator physical assets is beneficial to PHMSA, pipeline operators, and all stakeholders who utilize our data, and ultimately helps promote pipeline safety.

Pipeline operators whose NPMS submission due date would normally fall between October 1, 2008, and December 31, 2008, and who choose to align their submission dates with annual report due dates, may wait to submit their 2008 data capture until their new submission dates (either March 15, 2009 or June 15, 2009). As stated above, NPMS submissions will reflect the state of the assets on December 31, 2008.

The NPMS processing department encourages operators to submit data prior to the suggested deadlines. Submitting early will speed submission processing and provide time for the processing department to notify operators if a submission is incomplete. Submissions for the December 31, 2008, data capture will be accepted starting January 2, 2009. If operators have no change since their previous NPMS submission, they may continue to send an e-mail to npms-nr@mbakercorp.com or use the “Update your submission online” tool on the NPMS Web site (http://www.npms.phmsa.dot.gov) in lieu of making a submission.

Issued in Washington, DC, on July 24, 2008.
Jeffrey D. Wiese,
Associate Administrator for Pipeline Safety.

[FR Doc. E8-17532 Filed 7-30-08; 8:45 am]

BILLING CODE 4910-60-P